NUCLEAR WASTE TECHNICAL REVIEW BOARD

Board Meeting: April 27, 2011—Amherst, New York; the U.S. Nuclear Waste Technical Review Board Will Meet To Discuss the West Valley Demonstration Project

Pursuant to its authority under section 5051 of Public Law 100-203, Nuclear Waste Policy Amendments Act of 1987, the U.S. Nuclear Waste Technical Review Board will hold a public meeting in Amherst, New York, on Wednesday, April 27, 2011, to discuss the West Valley Demonstration Project (WVDP). Currently planned are presentations on the WVDP by representatives of the New York State Energy Research and Development Authority and the U.S. Department of Energy's (DOE) Office of Environmental Management. Other issues expected to be discussed include previous reprocessing and vitrification activities at the WVDP; long-term onsite storage of vitrified high-level radioactive waste (HLW); determination of waste classification of the melter from the vitrification facility; and the final Environmental Impact Statement and Record of Decision on decommissioning and/or long-term stewardship at the WVDP. Also planned are presentations and a panel discussion on the 2008-9 study on Quantitative Risk Assessment of the State Licensed Radioactive Waste Disposal Area.

The meeting will be held at the Buffalo Marriott Niagara; 1340 Millersport Highway; Amherst, New York 14221; (tel) 716-689-6900; (fax) 716-689-0483. A block of rooms has been reserved at the hotel for meeting attendees. To ensure receiving the meeting rate, room reservations must be made by April 8, 2011.

Reservations can be made online at http://www.buffaloniagaramarriott.com using the following procedure: In the “Rates & Availability” box, enter the reservation dates; click “Special Rates & Awards”; enter USIUSIA under “Group Code”; click on “FIND”; and make your reservation when the Group block appears. To reserve by phone, call 800-334-4040 and indicate that you are attending a meeting under the Group block name “NUCLEAR WASTE.”

A detailed agenda will be available on the Board's Web site at www.nwtrb.gov approximately one week before the meeting. The agenda also may be obtained by telephone request at that time.

The meeting will be open to the public, and opportunities for public comment will be provided. Those wanting to speak are encouraged to sign the “Public Comment Register” at the check-in table. It may be necessary to set a time limit on individual remarks, but written comments of any length may be submitted for the record.

Transcripts of the meeting will be available on the Board's Web site, by e-mail, on computer disk, and on library-loan in paper form from Davonya Barnes of the Board's staff after May 18, 2011.

The Board was established as an independent federal agency to provide ongoing objective expert advice to Congress and the Secretary of Energy on technical issues and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site.

The Board's visit to West Valley will complete a series of visits to federal facilities where government-owned HLW and spent nuclear fuel are managed and stored. As part of the Board's ongoing technical evaluation of DOE activities, the Board intends to develop a report to Congress and the Secretary of Energy containing Board findings, conclusions, and recommendations based on technical information gathered from visits to the Hanford site in Washington, Idaho National Laboratory in Idaho, the Savannah River Site in South Carolina, and the West Valley site in New York.

For information on the meeting agenda, contact Karyn Severson. For information on lodging or logistics, contact Linda Coultry. They can be reached at 2300 Clarendon Boulevard, Suite 1300; Arlington, VA 22201-3367; (tel) 703-235-4473; (fax) 703-235-4495.

Dated: March 24, 2011.
Nigel Mote,
Executive Director, U.S. Nuclear Waste Technical Review Board.

[FR Doc. 2011-7447 Filed 3-30-11; 8:45 am]

BILLING CODE 6820-AM-M